ENVIRONMENTAL PROTECTION AGENCY

[ER-FRL-8594-9]

Environmental Impact Statements; Notice of Availability

Responsible Agency: Office of Federal Activities, General Information (202) 564-1399 or http://www.epa.gov/compliance/nepa/.

Weekly receipt of Environmental Impact Statements

Filed June 22, 2009 through June 26, 2009

Pursuant to 40 CFR 1506.9.

EIS No. 20090215, Final EIS, AFS, MT, Miller West Fisher Project, Proposes Land Management Activities, including Timber Harvest, Access Management, Road Storage and Decommissioning, Prescribed Burning and Precommercial Thinning, Miller Creek, West Fisher Creek and the Silver Butte Fisher River, Libby Ranger District, Kootenai National Forest, Lincoln County, MT, Wait Period Ends: 08/03/2009 Contact: Leslie McDougall 406-293-7773.

EIS No. 20090216, Final EIS, COE, MS, PROGRAMMATIC EIS—Mississippi Coastal Improvements Program (MsCIP), Comprehensive Plan, Implementation, Hancock, Harrison and Jackson Counties, MS, Wait Period Ends: 08/03/2009, Contact: Dr. Susan Ivester Rees 251-694-4141.

EIS No. 20090217, Final EIS, AFS, AK, Logjam Timber Sale Project, Proposes Timber Harvesting from 4 Land Use Designations, Tongass Land and Resource Management Plan, Thorne Bay Ranger District, Tongass National Forest, Prince of Wales Island, AK, Wait Period Ends: 08/03/2009, Contact: Frank Roberts 907-828-3250.

EIS No. 20090218, Final EIS, NRC, PA, GENERIC—License Renewal of Nuclear Plants, Supplement 37 NUREG-1437, Regarding Three Mile Island Nuclear Station, Unit 1, Dauphin County, PA, Wait Period Ends: 08/03/2009, Contact: Sarah Lopas 301-415-1147.

EIS No. 20090219, Final EIS, USA, GA, Maneuver Center of Excellence at Fort Benning Project, Proposed Community Services, Personnel Support, Classroom Barracks, and Dining Facilities would be Constructed in three of the four Cantonment Areas, Fort Benning, GA, Wait Period Ends: 08/03/2009, Contact: Jennifer Shore 703-602-4238.

EIS No. 20090220, Second Final Supplement, NOA, Amendment 10 Atlantic Mackerel, Squid, Butterfish Fishery Management Plan, Development of a Rebuilding Program that Allows Butterfish Stock to Rebuild in the Shortest Time Possible, Exclusive Economic Zone (EEZ), off the U.S. Atlantic Coast, Wait Period Ends: 08/05/2009, Contact: Patricia Kurkul 978-281-9250.

EIS No. 20090221, Draft EIS, AFS, WI, Northwest Sands Restoration Project, Restoring the Pine Barren Ecosystem, Implementation, Washburn District Ranger, Chequamegon-Nicolet National Forest, Bayfield County, WI, Comment Period Ends: 08/17/2009, Contact: Jennifer Maziasz 715-373-2667 ext. 235.

Amended Notices

EIS No. 20090190, Draft EIS, AFS, OR, Wallowa-Whitman National Forest Travel Management Plan, Designate Roads Trails and Areas for Motor Vehicle User, Baker, Grant, Umatilla, Union and Wallowa Counties, OR, Comment Period Ends: 08/18/2009, Contact: Cindy Whitlock 541-962-8501 Revision to FR Notice Published 06/19/2009: Extending Comment Period from 08/17/2009 to 08/18/2009.

Dated: June 29, 2009.
Robert W. Hargrove,
Director, NEPA Compliance Division, Office of Federal Activities.

[FR Doc. E9-15693 Filed 7-1-09; 8:45 am]

BILLING CODE 6560-50-P